DEPARTMENT OF TRANSPORTATION

Federal Highway Administration

Agency Information Collection Activities: Submission for OMB Review

AGENCY: Federal Highway Administration (FHWA), DOT.

ACTION: Notice and request for comments.

SUMMARY: The FHWA has forwarded the information collection requests described in this notice to the Office of Management and Budget (OMB) for review and approval. We published a Federal Register notice with a 60-day public comment period on these information collections on March 16, 2001 (66 FR 15316). We are required to publish this notice in the Federal Register by the Paperwork Reduction Act of 1995.

DATES: Please submit comments by August 6, 2001.

ADDRESSES: You may send comments to the Office of Information and Regulatory Affairs, Office of Management and Budget, 725 17th Street, NW., Washington, DC 20503, Attention: DOT Desk Officer. You are asked to comment on any aspect of these information collections, including: (1) Whether the proposed collections are necessary for the FHWA's performance; (2) the accuracy of the estimated burdens; (3) ways for the FHWA to enhance the quality, usefulness, and clarity of the collected information; and (4) ways that the burdens could be minimized, including the use of electronic technology, without reducing the quality of the collected information.

SUPPLEMENTARY INFORMATION:

1. Title: Voucher for Federal-aid Reimbursements.

OMB Control Number: 2125-0507 (Expiration Date: September 30, 2001).

Abstract: The Federal-aid Highway Program includes provisions for the reimbursement to States for expenditure of State funds for eligible Federal-aid highway projects. The Voucher for Work Performed Under Provisions of the Federal-Aid and Federal Highway Acts, As Amended (Form PR-20) is utilized by the States to provide project financial data regarding the expenditure of State funds and to request progress payments from the FHWA.

Respondents: 50 State Transportation Departments, the District of Columbia, Puerto Rico, Guam, American Samoa, and the Virgin Islands.

Estimated Total Annual Burden: Approximately 12,300 vouchers per year. Each voucher requires an estimated 30 minutes completion time. The total annual burden for all respondents is estimated to be 6,150 hours.

For Further Information Contact: Ms. Debra Bargar, 202-366-2877, Department of Transportation, Federal Highway Administration, Office of Budget and Finance, 400 Seventh Street, SW., Washington, DC 20590. Office hours are from 7:30 a.m. to 4:30 p.m., Monday through Friday, except Federal holidays.

2. Title: Develop and Submit Utility Accommodation Policies

OMB Control Number: 2125-0514 (Expiration Date: September 30, 2001).

Abstract: State Departments of Transportation are required to develop and submit to FHWA a policy statement on the authority of utilities to use and occupy highway rights-of-way; the State's authority to regulate such use; and the policies and/or procedures employed for accommodating utilities within the rights-of-way of Federal-aid highway projects. Upon FHWA's approval of the policy statement, the State DOT may take any action required in accordance with the approved policy statement without case-by-case review by the FHWA. In addition, the utility accommodation policy statements that have been approved previously by the FHWA are periodically reviewed by the State DOTs to determine if updating is necessary to reflect policy changes.

Respondents: 52 State Transportation Departments, including the District of Columbia and Puerto Rico.

Frequency: Once initially, then updates for review as required at the States' discretion.

Estimated Total Annual Burden: The average burden for updating an existing policy is 280 hours per response. The estimated total annual burden, based upon an estimated 5 updates per year, is 1,400 hours.

For Further Information Contact: Mr. Paul Scott, 202-366-4104, Department of Transportation, Federal Highway Administration, Infrastructure Core Business Unit, 400 Seventh Street, SW., Washington, DC 20590. Office hours are from 7:30 a.m. to 4:30 p.m., Monday through Friday, except Federal holidays.

3. Title: Eligibility Statement for Utility Adjustments.

OMB Control Number: 2125-0515 (Expiration Date: September 30, 2001).

Abstract: State Departments of Transportation are required to submit to the FHWA a statement which establishes the State DOT's legal authority or obligation to pay for utility adjustments. The FHWA has previously reviewed and approved these eligibility statements for each State DOT. The statements are used as a basis for Federal-aid reimbursement in utility relocation costs under the provisions of 23 U.S.C. 123. Updated statements may be submitted for review at the States' discretion where circumstances have modified (for example, a change in State statute) the extent to which utility adjustments are eligible for reimbursement by the State or those instances where a local State DOT's legal basis for payment of utility adjustments differs from that of the State.

Respondents: 52 State Transportation Departments, including the District of Columbia and Puerto Rico.

Frequency: Once initially, then updates for review as required at the States' discretion.

Estimated Total Annual Burden: The average burden for preparing and submitting an updated eligibility statement is 18 hours per response. The estimated total annual burden, based upon 5 updated eligibility statements per year, is 90 hours.

For Further Information Contact: Mr. Paul Scott, 202-366-4104, Department of Transportation, Federal Highway Administration, Infrastructure Core Business Unit, 400 Seventh Street, SW., Washington, DC 20590. Office hours are from 7:30 a.m. to 4:30 p.m., Monday through Friday, except Federal holidays.

4. Title: Certificate of Enforcement of Heavy Vehicle Use Tax.

OMB Control Number: 2125-0541 (Expiration Date: September 30, 2001).

Abstract: Title 23, United States Code, Section 141(c), provides that a State's apportionment of funds under 23 U.S.C. 104(b)(5) shall be reduced in an amount up to 25 percent of the amount to be apportioned during any fiscal year beginning after September 30, 1984, if vehicles subject to the Federal heavy vehicle use tax are lawfully registered in the State without having presented proof of payment of the tax. The annual certification by the State Governor or designated official regarding the collection of the heavy vehicle use tax serves as the FHWA's primary means of determining State compliance. The FHWA has determined that an annual certification of compliance by each State is the least obtrusive means of administering the provisions of the legislative mandate. In addition, States are required to retain for one year Schedule 1, Form 2290, (or other suitable alternative provided by regulation). FHWA periodically conducts compliance reviews to determine if the annual certification is adequate to ensure effective administration of 23 U.S.C.141(c).

Respondents: 51 State Transportation Departments, including the District of Columbia.

Frequency: Annually.

Estimated Total Annual Burden: The average burden to submit the certification and retain required records is 12 hours per respondent. The estimated total annual burden is 612 hours.

For Further Information Contact: Ms. Gloria Williams, 202-366-5032, Department of Transportation, Federal Highway Administration, Policy Service Business Unit, 400 Seventh Street, SW., Washington, DC 20590. Office hours are from 7:30 a.m. to 4:30 p.m., Monday through Friday, except Federal holidays.

Electronic Access

Internet users may access all comments received by the U.S. DOT Dockets, Room PL-401, by using the universal resource locator (URL): http://dms.dot.gov. It is available 24 hours each day, 365 days each year. Please follow the instructions online for more information and help. An electronic copy of this document may be downloaded using a modem and suitable communications software from the Government Printing Office Electronic Bulletin Board Service at telephone number 202-512-1661. Internet users may reach the Federal Register's home Office's database at http://www.access.gpo.gov/nara.

Authority: The Paperwork Reduction Act of 1995; 44 U.S.C. Chapter 35, as amended; and 49 CFR 1.48.

Issued on: June 28, 2001.
James R. Kabel,
Chief, Management Programs and Analysis Division.

[FR Doc. 01-16731 Filed 7-3-01; 8:45 am]

BILLING CODE 4910-22-P